DEPARTMENT OF THE INTERIOR

Fish and Wildlife Service

[FWS-R9-IA-2009-N143; 96300-1671-0000-P5]

Receipt of Applications for Permit

AGENCY: Fish and Wildlife Service, Interior.

ACTION: Notice of receipt of applications for permit.

SUMMARY: We, the U.S. Fish and Wildlife Service, invite the public to comment on the following applications for permits to conduct certain activities with endangered species. The Endangered Species Act requires that we invite public comment on these permit applications.

DATES: Written data, comments or requests must be received by August 27, 2009.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 212, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531 et seq.). Submit your written data, comments, or requests for copies of the complete applications to the address shown in ADDRESSES.

Applicant: Hidden Harbor Marine Environmental Project, dba The Turtle Hospital, Marathon, FL, PRT-216464

The applicant requests a permit to import one hawksbill sea turtle (Eretmochelys imbricata) of unknown sex that was found injured in the waters of the Netherlands Antilles for the purpose of enhancement of the survival of the species.

Applicant: U.S. Fish and Wildlife Service, Cheyenne, WY, PRT-217648

The applicant requests a permit to export biological samples from the Wyoming toad (Bufo hemiophrys baxteri) collected from captive-born specimens, for the purpose of scientific research.

Applicant: Philadelphia Zoo, Philadelphia, PA, PRT-218607

The applicant requests a permit to import one captive-born snow leopard (Uncia uncia) from the Toronto Zoo, Ontario, Canada, for the purpose of enhancement of the survival of the species.

Applicant: Erie Zoo, Erie, PA, PRT-210111

The applicant requests a permit to import one captive-born Amur leopard (Panthera pardus orientalis) for the purpose of enhancement of the survival of the species through captive breeding and zoological display.

Applicant: Fort Wayne Zoological Society, Fort Wayne, IN, PRT-217321

The applicant requests a permit to import a captive-born female silvery Javan gibbon (Hylobates moloch) from the Belfast Zoo, Belfast, United Kingdom, for the purpose of enhancement of the survival of the species through captive breeding, public education and behavioral observations.

Applicant: Hollywood Animals, Inc., Los Angeles, CA, PRT-064209, PRT-107740, PRT-107741 and PRT-107742

The applicant requests re-issuance of permits to re-export and re-import one male and three female captive-born tigers (Panthera tigris) to worldwide locations for the purpose of enhancement of the species through conservation education. The permit numbers and animals are: PRT-064209, Katrina/Katie; PRT-107740, Kipling; PRT-107741, Kismet; and PRT-107742, Shickha. This notification covers activities to be conducted by the applicant over a three-year period and the import of any potential progeny born while overseas.

Applicant: Ferdinand and Anton Fercos-Hantig, Las Vegas, NV, PRT-809334, PRT-114454, and PRT-206853

The applicant requests permits to export/re-export and re-import three female captive-born tigers (Panthera tigris) to worldwide locations for the purpose of enhancement of the species through conservation education. The permit numbers and animals are: New - PRT-206853, Allaya; Re-issue - PRT-809334, Sarina; PRT-114454, Dora. This notification covers activities to be conducted by the applicant over a three-year period and the import of any potential progeny born while overseas.

The following applicants request a permit to import the sport-hunted trophy of one male bontebok (Damaliscus pygargus pygargus) culled from a captive herd maintained under the management program of the Republic of South Africa, for the purpose of enhancement of the survival of the species.

Applicant: Earl E. Wismer, Bethlehem, PA, PRT-206026

Applicant: Michael C. Higgins, Morrison, CO, PRT-211919

Applicant: David J. Beck, Jr., Houston, TX, PRT-212209

Applicant: Sassan K. Moghadam, Norman, OK, PRT-212751

Applicant: Patrick D. McCown, New Castle, CO, PRT-215979

Applicant: John C. Sigler, Dover, DE, PRT-217091

Applicant: Larry D. Bernhardt, McAlester, OK, PRT-217132

Applicant: Christopher W. LaBelle, Macomb Township, MI, PRT-217190

Applicant: Jon L. Blocker, Bend, OR, PRT-219116

Applicant: Pamela M. Cooper, Leitchfield, KY, PRT-219123

Dated: July 17, 2009,
Lisa J. Lierheimer,
Senior Permit Biologist, Branch of Permits, Division of Management Authority.

[FR Doc. E9-17904 Filed 7-27-09; 8:45 am]

BILLING CODE 4310-55-S